DEPARTMENT OF COMMERCE

National Oceanic and Atmospheric Administration

Agency Information Collection Activities; Submission to the Office of Management and Budget (OMB) for Review and Approval; Comment Request; NOAA Diving Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 16, 2023.

ADDRESSES: Interested persons are invited to submit written comments to Adrienne Thomas, NOAA PRA Officer, at NOAA.PRA@noaa.gov. Please reference OMB Control Number 0648-XXXX in the subject line of your comments. Do not submit Confidential Business Information or otherwise sensitive or protected information.

FOR FURTHER INFORMATION CONTACT: Requests for additional information or specific questions related to collection activities should be directed to NOAA Diving Center Executive Officer, NOAA Diving Program, 7600 Sand Point Way NE, Building 8, Seattle, WA 98115, 206-526-6460.

SUPPLEMENTARY INFORMATION:

I. Abstract

This is a request for approval of a collection currently in use without OMB approval.

The NOAA Diving Program (NDP) is administered by the U.S. Department of Commerce, National Oceanic and Atmospheric Administration (NOAA), and is headquartered at the NOAA Western Regional Center (WRC) in Seattle, Washington. The NDP provides the guidelines, policy, and training for all NOAA Divers, which includes all NOAA employees who dive, as well as contractors and volunteers, among others, who conduct diving operations.

With more than 300 divers, the National Oceanic and Atmospheric Administration (NOAA) has the largest complement of divers of any civilian federal agency. NOAA Divers conduct operations in our nation's waters and beyond in support of NOAA's scientific research and operations. They are called upon to work in various conditions ranging from the warm, clear waters of a marine sanctuary, to the cold, murky waters of a commercial harbor. The tasks NOAA Divers complete are as varied as the waters they dive in, with most divers supporting projects and research of the National Ocean Service (NOS), the National Marine Fisheries Service (NMFS), and the Office of Marine and Aviation Operations (OMAO).

NOAA Divers are required to maintain a high level of proficiency, both in practice (in the water) and in theoretical understanding (academic learning) in order to continue to dive at NOAA. In addition, NOAA Divers must maintain medical fitness to dive and are required to send their diving equipment out for maintenance as scheduled. If requirements are not met, divers may become unauthorized to dive or suspended. In order to become NOAA Divers, candidates must first submit a diving physical to the NOAA Diving Medical Officers to determine if they are medically fit to dive. After that, divers must complete medical documentation annually to maintain authorization to dive. To maintain fitness to dive, it is imperative that divers recognize the need for a continual and aggressive exercise program that exceeds basic health maintenance standards.

II. Method of Collection

Information will be collected electronically via email.

III. Data

OMB Control Number: 0648-XXXX.

Form Number(s): None.

Type of Review: Regular submission [information collection in use without OMB approval].

Affected Public: Individuals.

Estimated Number of Respondents: 483.

Estimated Time per Response: The time for response varies depending on the collection instrument. The response times range from one minute to two hours.

Estimated Total Annual Burden Hours: 214.5.

Estimated Total Annual Cost to Public: $35,100. This is an upper bound estimate that assumes that respondents providing a Report of Medical History—Diver do not have private insurance. If all respondents have private insurance, the estimated annual cost would be approximately $1,750 which assumes a $35 co-pay.

Respondent's Obligation: Required to Obtain or Retain Benefits.

Legal Authority:

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-17733 Filed 8-16-23; 8:45 am]

BILLING CODE 3510-12-P